ENVIRONMENTAL PROTECTION AGENCY

[EPA-HQ-OPP-2013-0036; FRL-9387-5]

CDM Smith and Dynamac Corp; Transfer of Data

AGENCY: Environmental Protection Agency (EPA).

ACTION: Notice.

SUMMARY: This notice announces that pesticide related information submitted to EPA's Office of Pesticide Programs pursuant to the Federal Insecticide, Fungicide, and Rodenticide Act (FIFRA) and the Federal Food, Drug, and Cosmetic Act (FFDCA), including information that may have been claimed as Confidential Business Information (CBI) by the submitter, will be transferred to CDM Smith and its subcontractor, Dynamac Corp, in accordance with 40 CFR 2.307(h)(3) and 2.308(i)(2). CDM Smith and its subcontractor, Dynamac Corp, have been awarded a contract to perform work for OPP, and access to this information will enable CDM Smith and its subcontractor, Dynamac Corp, to fulfill the obligations of the contract.

DATES: CDM Smith and its subcontractor, Dynamac Corp, will be given access to this information on or before June 3, 2013.

FOR FURTHER INFORMATION CONTACT: Mario Steadman, Information Technology and Resources Management Division (7502P), Office of Pesticide Programs, Environmental Protection Agency, 1200 Pennsylvania Ave. NW., Washington, DC 20460-0001; telephone number: 703 305-8338, steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2013-0036. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. EP-W-11-020, CDM Smith and its subcontractor, Dynamac Corp, will perform support OPP in four general areas: Reviewing and evaluating studies provided by the registrants or found in open literature searches; producing assessments; reviewing submitted risk assessments; and developing or improving risk assessment methods. In addition, support may be required to provide training for EPA staff on issues related to the science and methods of risk assessment. Workshop organization and facilitation may also be required.

OPP has determined that access by CDM Smith and its subcontractor, Dynamac Corp, to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with CDM Smith and its subcontractor, Dynamac Corp, prohibits use of the information for any purpose not specified in the contract; prohibits disclosure of the information to a third party without prior written approval from the Agency; and requires that each official and employee of the contractor sign an agreement to protect the information from unauthorized release and to handle it in accordance with the FIFRA Information Security Manual. In addition, CDM Smith and its subcontractor, Dynamac Corp, are required to submit for EPA approval a security plan under which any CBI will be secured and protected against unauthorized release or compromise. No information will be provided to CDM Smith and its subcontractor, Dynamac Corp, until the requirements in this document have been fully satisfied. Records of information provided to CDM Smith and its subcontractor, Dynamac Corp, will be maintained by EPA Project Officers for this contract. All information supplied to CDM Smith and its subcontractor, Dynamac Corp, by EPA for use in connection with this contract will be returned to EPA when CDM Smith and its subcontractor, Dynamac Corp, have completed their work.

List of Subjects

Environmental protection, Business and industry, Government contracts, Government property, Pesticides and pests, Security measures.

Dated: May 14, 2013.
Oscar Morales,
Director, Information Technology and Resources Management Division, Office of Pesticide Programs.

[FR Doc. 2013-12780 Filed 5-28-13; 8:45 am]

BILLING CODE 6560-50-P